FEDERAL EMERGENCY MANAGEMENT AGENCY

44 CFR Part 65

[Docket No. FEMA-D-7535]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Administrator reconsider the changes. The modified elevations may be changed during the 90-day period.

ADDRESSES: The modified base flood elevations for each community are available for inspection at the office of the Chief Executive Officer of each community. The respective addresses are listed in the following table.

FOR FURTHER INFORMATION CONTACT: Michael M. Grimm, Acting Chief, Hazard Study Branch, Federal Insurance and Mitigation Administration, Federal Emergency Management Agency, 500 C Street SW., Washington, DC 20472, (202) 646-2878, or (email) Michael.Grimm@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act. This rule is categorically excluded from the requirements of 44 CFR Part 10, Environmental Consideration. No environmental impact assessment has been prepared.

Regulatory Flexibility Act. The Administrator, Federal Insurance and Mitigation Administration, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, floodplains, reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Florida: | Monroe | Unincorporated Areas | January 14, 2003; January 21, 2003; The Key West Citizen | Mr. James Roberts, Monroe County Administrator, 1100 Simonton Street, Key West, Florida 33040 | December 31, 2002 | 125129 C
Orange | City of Ocoee | December 4, 2002; December 11, 2002; The Orlando Sentinel | The Honorable S. Scott Vandergift, Mayor of the City of Ocoee, City Hall, 150 North Lakeshore Drive, Ocoee, Florida 34761 | March 12, 2003 | 120185 E
Orange | Unincorporated Areas | December 27, 2002; January 3, 2003; The Orlando Sentinel | Dr. M. Krishnamurthy, P.E., Orange County Stormwater Management Manager, 4200 South John Young Parkway, Orlando, Florida 32839 | December 13, 2002 | 120179 E
Orange | City of Orlando | December 27, 2002; January 3, 2003; The Orlando Sentinel | The Honorable Glenda E. Hood, Mayor of the City of Orlando, 400 South Orange Avenue, Orlando, Florida 32802 | December 13, 2002 | 120186 E
Santa Rosa | Unincorporated Areas | January 11, 2003; January 18, 2003; The Press Gazette | Mr. Hunter Walker, Santa Rosa County Administrator, 6495 Caroline Street, Suite D, Milton, Florida 32570-4592 | December 31, 2002 | 120274 C
Leon | City of Tallahassee | December 17, 2002; December 24, 2002; Tallahassee Democrat | The Honorable Scott Maddox, Mayor of the City of Tallahassee, City Hall 300 Adams Street, Tallahassee, Florida 32301-1731 | March 25, 2003 | 120144 D
Georgia: Cobb | City of Marietta | December 27, 2002; January 3, 2003; Marietta Daily Journal | The Honorable Bill Dunaway, Mayor of the City of Marietta, 205 Lawrence Street, P.O. Box 3536, Marietta, Georgia 30061 | April 4, 2003 | 130226 D
Illinois: | DuPage | Village of Carol Stream | November 26, 2002; December 3, 2002; The Daily Herald | The Honorable Ross Ferraro, Mayor of the Village of Carol Stream, 500 North Gary Avenue, Carol Stream, Illinois 60188 | December 19, 2002 | 170202 C
Kane | Unincorporated Areas | January 14, 2003; January 21, 2003; Kane County Chronicle | Mr. Michael W. McCoy, Chairman of the Kane County Board of Commissioners, 719 South Batavia Avenue, Geneva, Illinois 60134 | December 31, 2002 | 170896 F
DuPage | Village of Lisle | December 20, 2002; December 27, 2002; Daily Herald | The Honorable Joseph Broda, Mayor of the Village of Lisle, 1040 Burlington Avenue, Lisle, Illinois 60532 | December 12, 2002 | 170211 B
Indiana: Allen | City of Fort Wayne | November 27, 2002; December 4, 2002; The Journal Gazette | The Honorable Graham Richard, Mayor of the City of Fort Wayne, City-County Building, 1 Main Street, 9th floor, Fort Wayne, Indiana 46802-1804 | March 5, 2003 | 180003 E
Maryland: | Frederick | City of Frederick | October 18, 2002; October 25, 2002; Frederick News Post | The Honorable Jennifer P. Dougherty, Mayor of the City of Frederick, 101 North Court Street, Frederick, Maryland 21701 | January 24, 2003 | 240030 B
Harford | Unincorporated Areas | January 10, 2003; January 17, 2003; The Aegis | Mr. James M. Harkins, Harford County Executive, 220 South Main Street, Bel Air, Maryland 21014 | April 18, 2003 | 240040 D
Washington | Unincorporated Areas | January 17, 2003; January 24, 2003; The Herald Mail | Mr. Rodney Shoop, Washington County Administrator, 100 West Washington Street, Hagerstown, Maryland 21740 | April 25, 2003 | 240070 B
Massachusetts: | Middlesex | Town of Concord | December 5, 2002; December 12, 2002; Concord Journal | Mr. Christopher Whelan, Manager of the Town of Concord, 22 Monument Square, P.O. Box 535, Concord, Massachusetts 01742 | November 22, 2002 | 250189 B
Michigan: Kent | City of Kentwood | January 10, 2003; January 17, 2003; The Grand Rapids Press | The Honorable Bill Hardiman, Mayor of the City of Kentwood, P.O. Box 8848, Kentwood, Michigan 49518-8848 | December 31, 2002 | 260107 B
Mississippi: | Hinds | City of Clinton | January 9, 2003; January 15, 2003; The Clarion-Ledger | The Honorable Rosemary G. Aultman, Mayor of the City of Clinton, P.O. Box 156, Clinton, Mississippi 39060 | December 31, 2002 | 280071 D
Madison | City of Ridgeland | January 2, 2003; January 9, 2003; The Clarion-Ledger | The Honorable Gene F. McGee, Mayor of the City of Ridgeland, P.O. Box 217, Ridgeland, Mississippi 39158 | April 10, 2003 | 280110 D
Madison | City of Ridgeland | January 30, 2003; February 6, 2003; The Clarion-Ledger | The Honorable Gene F. McGee, Mayor of the City of Ridgeland, P.O. Box 217, Ridgeland, Mississippi 39158 | May 8, 2003 | 280110 D
New Hampshire: Grafton | Town of Holderness | December 5, 2002; December 12, 2002; The Record Enterprise | Mr. Steve Huss, Chairman of the Town of Holderness Board of Selectmen, Holderness Town Hall, P.O. Box 203, Holderness, New Hampshire 03245 | March 13, 2002 | 330059 C
New Jersey: | Union | Township of Berkeley Heights | January 15, 2003; January 22, 2003; The Courier-News | The Honorable David A. Cohen, Mayor of the Township of Berkeley Heights, 29 Park Avenue, Berkeley Heights, New Jersey 07922 | April 23, 2003 | 340459 E
Atlantic | City of Brigantine | November 29, 2002; December 6, 2002; The Beachcomer News | Mr. George McDermott, Brigantine City Manager, Brigantine Municipal Building, 1417 West Brigantine Avenue, Brigantine, New Jersey 08203 | November 20, 2002 | 345286 B
New York: Erie | Town of Hamburg | December 12, 2002; December 19, 2002; Hamburg Sun | Mr. Patrick H. Hoak, Hamburg Town Supervisor, 6100 South Park Avenue, Hamburg, New York 14075 | June 3, 2003 | 360244 D
Pennsylvania: Chester Borough of Downingtown | January 8, 2003; January 15, 2003; Daily Local News | Mr. Casey Lalonde, Borough of Downingtown, Interim Manager, 4-10 West Lancaster Avenue, Downingtown, Pennsylvania 19335 | December 30, 2002 | 420275 E
York | Township of Springettsbury | December 20, 2002; December 27, 2002; The York Dispatch | Mr. Robert J. Sabatini, Jr., Springettsbury Township Manager, 1501 Mt. Zion Road, York, Pennsylvania 17402 | March 28, 2003 | 421031 A
York | Township of Spring Garden | December 20, 2002; December 27, 2002; The York Dispatch | Mr. Joseph F. Barrons, Spring Garden Township Manager, 558 Ogantz Street, York, Pennsylvania 17403 | March 28, 2003 | 420937 B
Common-wealth | Puerto Rico | January 17, 2003; January 24, 2003; The San Juan Star | The Honorable Sila Maria Canderon, Governor of the Commonwealth of Puerto Rico, Office of the Governor, P.O. Box 9020082, San Juan, Puerto Rico 00902 | April 25, 2003 | 720000 C
Tennessee: | Shelby | City of Memphis | December 30, 2002; January 6, 2003; The Commercial Appeal | The Honorable Willie W. Herenton, Ph.D., Mayor of the City of Memphis, 125 North Main Street, Suite 700, Memphis, Tennessee 38103 | December 20, 2002 | 470177 E
Nashville and Davidson | Metropolitan Government | December 13, 2002; December 20, 2002; The Tennessean | The Honorable William Purcell, Mayor of the Metropolitan Government of Nashville and Davidson County, 107 Metropolitan Courthouse, Nashville, Tennessee 37201 | December 6, 2002 | 470040 F
Shelby | Unincorporated Areas | December 17, 2002; December 24, 2002 The Commercial Appeal | The Honorable A.C. Wharton, Jr., Mayor of Shelby County, 160 North Main Street, Suite 850, Memphis, Tennessee 38103 | December 10, 2002 | 470214 E
Virginia: Loudoun | Town of Leesburg | January 3, 2003; Loudoun Times Mirror | The Honorable Kristen Umstattd, Mayor of the Town of Leesburg, 25 West Market Street, P.O. Box 88, Leesburg, Virginia 20178 | December 30, 2002 | 510091 D
West Virginia: McDowell | Unincorporated Areas | January 8, 2003; January 15, 2003; The Welch News | Mr. B.G. Smith, McDowell County Administrator, 90 Wyoming Street, Suite 109, Welch, West Virginia 25801 | April 16, 2003 | 540114 B
Wisconsin: | Chippewa | Unincorporated Areas | January 8, 2003; January 15, 2003; The Chippewa Herald | Mr. Michael Murphy, Chairman of the Chippewa County Board, 711 North Bridge Street, Chippewa Falls, Wisconsin 54729 | December 30, 2002 | 555549 C
Lincoln | City of Merrill | November 26, 2002; December 3, 2002; The Tomahawk Leader | The Honorable Douglas Williams, Mayor of the City of Merrill, 1004 East First Street, Merrill, Wisconsin 54452 | November 18, 2002 | 555565 B
Pierce | Unincorporated Areas | January 15, 2003; January 22, 2003; Pierce County Herald | Mr. Richard Truax, Pierce County Board Chairman, P.O. Box 128, Ellsworth, Wisconsin 54011 | April 21, 2003 | 555571 B

(Catalog of Federal Domestic Assistance No. 83.100, “Flood Insurance”)
Dated: February 3, 2003.
Anthony S. Lowe,
Administrator, Federal Insurance and Mitigation Administration.

[FR Doc. 03-3336 Filed 2-10-03; 8:45 am]

BILLING CODE 6718-04-P